NUCLEAR REGULATORY COMMISSION

[Docket No. 50-331; NRC-2010-0048]

Nextera Energy Duane Arnold, LLC; Duane Arnold Energy Center; Notice of Availability of the Final Supplement 42 to the Generic Environmental Impact Statement for License Renewal of Nuclear Plants

Notice is hereby given that the U.S. Nuclear Regulatory Commission (NRC or Commission) has published a final plant-specific Supplement 42 to the Generic Environmental Impact Statement for License Renewal of Nuclear Plants (GEIS), NUREG-1437, regarding the renewal of operating license DPR-49 for an additional 20 years of operation for the Duane Arnold Energy Center (DAEC). The DAEC is located in Linn County, Iowa, approximately two miles north-northeast of the town of Palo. Possible alternatives to the proposed action (license renewal) include no action and reasonable alternative energy sources.

As discussed in Section 9.4 of the final Supplement 42, based on: (1) The analysis and findings in the GEIS; (2) the Environmental Report submitted by NextEra Energy Duane Arnold, LLC (formerly known as FPL Energy Duane Arnold, LLC (FPL-DA)); (3) consultation with Federal, State, and local agencies; (4) the staff's own independent review; and (5) the staff's consideration of public comments. The recommendation of the staff is that the NRC determines that the adverse environmental impacts of license renewal for DAEC are not great enough to deny the option of license renewal for energy-planning decision-makers.

The final Supplement 42 to the GEIS is publicly available at the NRC Public Document Room, located at One White Flint North, 11555 Rockville Pike, Rockville, Maryland, 20852, or from the NRC's Agencywide Documents Access and Management System (ADAMS). The ADAMS Public Electronic Reading Room is accessible at http://www.nrc.gov/reading-rm/adams.html. The accession number for the final Supplement 42 to the GEIS is ML102790308. Persons who do not have access to ADAMS, or who encounter problems in accessing the documents located in ADAMS, should contact the NRC's Public Document Room Reference staff by telephone at 1-800-397-4209, or 301-415-4737 or by e-mail at PDR.Resource@nrc.gov. In addition, the Hiawatha Public Library, located at 150 West Willman Street, Hiawatha, Iowa, has agreed to make the final supplement to the GEIS available for public inspection.

For Further Information Contact: Mr. Jeremy J. Susco, Projects Branch 1, Division of License Renewal, Office of Nuclear Reactor Regulation, U.S. Nuclear Regulatory Commission, Mail Stop O-11F1, Washington, DC, 20555-0001. Mr. Susco may be contacted at 1-800-368-5642, extension 2927 or via e-mail at Jeremy.Susco@nrc.gov.

Dated at Rockville, Maryland, this 13th day of October, 2010.
For the Nuclear Regulatory Commission.
Bo Pham,
Chief, Project Branch 1, Division of License Renewal, Office of Nuclear Reactor Regulation.

[FR Doc. 2010-26396 Filed 10-19-10; 8:45 am]

BILLING CODE 7509-01-P